FEDERAL COMMUNICATIONS COMMISSION

47 CFR Part 73

[MB Docket No. 22-436; RM-11941; DA 22-1281; FR ID 120700]

Television Broadcasting Services Lufkin, Texas

AGENCY: Federal Communications Commission.

ACTION: Proposed rule.

SUMMARY: The Federal Communications Commission (the Commission) has before it a petition for rulemaking filed by Gray Television Licensee, LLC (Petitioner), the licensee of KTRE, channel 9, Lufkin, Texas. The Petitioner requests the substitution of channel 24 for channel 9 at Lufkin in the Table of TV Allotments.

DATES: Comments must be filed on or before February 6, 2023 and reply comments on or before February 21, 2023.

ADDRESSES: Federal Communications Commission, Office of the Secretary, 45 L Street NE, Washington, DC 20554. In addition to filing comments with the FCC, interested parties should serve counsel for the Petitioner as follows: Joan Stewart, Esq., Wiley Rein LLP, 2050 M Street NW, Washington, DC 20036.

FOR FURTHER INFORMATION CONTACT: Joyce Bernstein, Media Bureau, at (202) 418-1647; or Joyce Bernstein, Media Bureau, at Joyce.Bernstein@fcc.gov.

SUPPLEMENTARY INFORMATION: In support, the Petitioner states that the proposed channel substitution serves the public interest because it will resolve significant over-the-air reception problems in KTRE's existing service area. The Petitioner further states that the Commission has recognized the deleterious effects manmade noise has on the reception of digital VHF signals, and that the propagation characteristics of these channels allow undesired signals and noise to be receivable at relatively farther distances compared to UHF channels and nearby electrical devices can cause interference. The Petitioner further states that the existing KTRE tower has significantly deteriorated and cannot be reasonably repaired, and thus it proposes to relocate the proposed KTRE facility on channel 24 to an adjacent, shorter tower.¹ Although that facility would result in a slight reduction in KTRE's predicted population served, once terrain-limited coverage predications and coverage of same-network (ABC) alternative stations are taken into account, the Engineering Statement submitted with the petition demonstrates that only 448 persons will lose ABC network service, a number which the Commission considers de minimis.

¹ Petition at 3-4.

This is a synopsis of the Commission's Notice of Proposed Rulemaking, MB Docket No. 22-436; RM-11941; DA 22-1281, adopted December 9, 2022, and released December 9, 2022. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

2. In § 73.622, in paragraph (j), amend the Table of TV Allotments under “Texas” by revising the entry for “Lufkin” to read as follows:

§ 73.622 Table of TV Allotments.

* * * * *

(j) * * *

Community | Channel No.
* * * * *
TEXAS
* * * * *
Lufkin | 24
* * * * *

[FR Doc. 2022-28332 Filed 1-5-23; 8:45 am]

BILLING CODE 6712-01-P